Title 3—

The President

Proclamation 7400 of January 17, 2001

To Designate Swaziland as a Beneficiary Sub-Saharan African Country and for Other Purposes

By the President of the United States of America

A Proclamation

1. Section 506A(a)(1) of the Trade Act of 1974, as amended (the “1974 Act”) (19 U.S.C. 2466a(a)(1)), as added by section 111(a) of the African Growth and Opportunity Act (Title I of Public Law 106-200) (AGOA), authorizes the President to designate countries listed in section 107 of the AGOA (19 U.S.C. 3706) as “beneficiary sub-Saharan African countries.”

2. Section 112(b)(3)(B) of the AGOA (19 U.S.C. 3721(b)(3)(B)) provides special rules for certain apparel articles imported from “lesser developed beneficiary sub-Saharan African countries.”

3. Proclamation 7350 of October 2, 2000, designated certain countries listed in section 107 of the AGOA as beneficiary sub-Saharan African countries and identified which designated beneficiary sub-Saharan African countries would be considered lesser developed beneficiary sub-Saharan African countries under section 112(b)(3)(B) of the AGOA.

4. Pursuant to section 506A(a)(1) of the 1974 Act, and having due regard for the eligibility criteria set forth therein, I have determined that it is appropriate to designate the Kingdom of Swaziland as a beneficiary sub-Saharan African country.

5. The Kingdom of Swaziland satisfies the criteria for treatment as a lesser developed beneficiary sub-Saharan African country under section 112(b)(3)(B) of the AGOA (19 U.S.C. 3721(b)(3)(B)).

6. Annex II to Proclamation 7388 of December 18, 2000, listed certain products that are eligible for preferential tariff treatment under section 213(b)(3)(A) of the Caribbean Basin Economic Recovery Act (CBERA) (19 U.S.C. 2703(b)(3)(A)), as amended by section 211(a) of the Caribbean Basin Trade Partnership Act (CBTPA) (Title II of Public Law 106-200). Section C of that Annex incorrectly stated the staged rate of duty to be applied to certain imports under subheading 6402.99.70 of the Harmonized Tariff Schedule of the United States (HTS). I have determined that this error should be corrected.

7. Proclamations 7350 and 7351 of October 2, 2000, added new general notes 16 and 17 to the HTS and renumbered other general notes. I have determined that general note 1 to the HTS should be modified to reflect these changes.

8. Section 604 of the 1974 Act (19 U.S.C. 2483) authorizes the President to embody in the HTS the substance of the relevant provisions of that Act, and of other acts affecting import treatment, and actions thereunder, including the removal, modification, continuance, or imposition of any rate of duty or other import restriction.

NOW, THEREFORE, I, WILLIAM J. CLINTON, President of the United States of America, acting under the authority vested in me by the Constitution and the laws of the United States of America, including sections 506A and 604 of the 1974 Act, sections 111 and 112 of the AGOA, section 211 of the CBTPA, and section 213 of the CBERA, do proclaim that:

(1) The Kingdom of Swaziland is designated as a beneficiary sub-Saharan African country.

(2) In order to reflect this designation in the HTS, general note 16(a) to the HTS is modified by inserting in alphabetical sequence in the list of beneficiary sub-Saharan African countries “Kingdom of Swaziland”.

(3) For purposes of section 112(b)(3)(B) of the AGOA, the Kingdom of Swaziland shall be considered a lesser developed beneficiary sub-Saharan African country.

(4) Effective with respect to articles entered, or withdrawn from warehouse for consumption, on or after January 1, 2001, HTS subheading 6402.99.70 is modified by deleting the figure “11.2%” from the Rates of Duty 1-Special subcolumn and inserting in lieu thereof “7.5%” for such special rate. Effective with respect to articles entered, or withdrawn from warehouse for consumption, on or after January 1, 2002, such subheading is modified by deleting the figure “7.5%” and inserting in lieu thereof “3.7%” for such special rate.

(5) General note 1 to the HTS is modified by deleting the phrase “through 14, inclusive, and general note 16” and by inserting in lieu thereof “through 18, inclusive”.

(6) Any provisions of previous proclamations and Executive Orders that are inconsistent with this proclamation are superseded to the extent of such inconsistency.

(7) Except as provided in paragraph (4) of this proclamation, the modifications to the HTS made by this proclamation shall be effective with respect to articles entered, or withdrawn from warehouse for consumption, on or after the date of publication of this proclamation in the Federal Register.

IN WITNESS WHEREOF, I have hereunto set my hand this seventeenth day of January, in the year of our Lord two thousand one, and of the Independence of the United States of America the two hundred and twenty-fifth.

wj

[FR Doc. 01-2136

Filed 1-22-01; 8:45 am]

Billing code 3195-01-P